SECURITIES AND EXCHANGE COMMISSION

17 CFR Part 270

[File No. S7-03-04]

RIN 3235-AJ62

Investment Company Governance

AGENCY: Securities and Exchange Commission.

ACTION: Notice of comment deadline.

On December 21, 2006, the Commission published a document in the Federal Register reopening the comment period on its June 2006 request for comment regarding amendments to investment company governance provisions (“Request for Additional Comment”) (Investment Company Release No. 27600 (Dec. 15, 2006) [71 FR 76618 (Dec. 21, 2006) (FR Doc. No. E6-21903)]). The purpose of the additional comment period is to permit public comment on two papers prepared by the Office of Economic Analysis on this topic. The Request for Additional Comment stated that comments must be received on or before 60 days after publication of the second of the two staff economic papers in the public comment file. The second of these papers was published in the public comment file on December 29, 2006, and both papers are available on the Commission's Internet Web site (http://www.sec.gov/rules/proposed/s70304/oeamemo122906-powerstudy.pdf; http://www.sec.gov/rules/proposed/s70304/oeamemo122906-litreview.pdf).

Comments must be received on or before March 2, 2007.

Dated: December 29, 2006.
Jill M. Peterson,
Assistant Secretary.

[FR Doc. E7-13 Filed 1-5-07; 8:45 am]

BILLING CODE 8011-01-P